DEPARTMENT OF AGRICULTURE

Animal and Plant Health Inspection Service

7 CFR Part 354

[Docket No. APHIS-2009-0048]

RIN 0579-AC99

User Fees for Agricultural Quarantine and Inspection Services

AGENCY: Animal and Plant Health Inspection Service, USDA.

ACTION: Interim rule; delay of effective date.

SUMMARY: On September 28, 2009, we published an interim rule in the Federal Register to adjust the fees charged for certain agricultural quarantine and inspection (AQI) services that are provided in connection with certain commercial vessels, commercial trucks, commercial railroad cars, commercial aircraft, and international airline passengers arriving at ports in the customs territory of the United States. That interim rule was scheduled to become effective on October 1, 2009. We are delaying the effective date of the interim rule until November 1, 2009. This delay will provide entities affected by the changes in AQI user fees additional time to make the necessary preparations to comply with the new fees.

DATES: The effective date for the interim rule amending 7 CFR part 354 published at 74 FR 49311-49315 on September 28, 2009, is delayed until November 1, 2009.

FOR FURTHER INFORMATION CONTACT: For information concerning program operations, contact Mr. William E. Thomas, Director, Quarantine Policy, Analysis, and Support, PPQ, APHIS, 4700 River Road, Unit 131, Riverdale, MD 20737; (301) 734-5214. For information concerning rate development, contact Mrs. Kris Caraher, User Fee Section, Financial Services Branch, Financial Management Division, MRPBS, APHIS, 4700 River Road Unit 55, Riverdale, MD 20737-1232; (301) 734-0882.

SUPPLEMENTARY INFORMATION:

Background

In an interim rule published in the Federal Register on September 28, 2009 (74 FR 49311-49315, Docket No. APHIS-2009-0048), we amended the user fee regulations in 7 CFR part 354 by adjusting the fees charged for certain agricultural quarantine and inspection (AQI) services that are provided in connection with certain commercial vessels, commercial trucks, commercial railroad cars, commercial aircraft, and international airline passengers arriving at ports in the customs territory of the United States. In the interim rule, we explained that the recent downturn in the U.S. economy has negatively impacted travel volumes, and, as a result, our user fee collections, which fund these services, have diminished. Although the volume of international travel and trade has decreased, inspection and related support services continue to be provided at their existing levels, so expenses have not decreased. As a result, our user fee collections have not been sufficient to enable us to provide those services and maintain a reasonable reserve balance. We therefore found it necessary to increase our AQI user fees in order to provide adequate funds for these purposes.

The interim rule was scheduled to become effective on October 1, 2009. We are delaying the effective date of the interim rule until November 1, 2009. This delay will provide entities affected by the changes in AQI user fees additional time to make the necessary preparations to comply with the new fees.

Accordingly, the effective date for the interim rule amending 7 CFR part 354 published at 74 FR 49311-49315 on September 28, 2009, is delayed until November 1, 2009.

Authority: 7 U.S.C. 7701-7772, 7781-7786, and 8301-8317; 21 U.S.C. 136 and 136a; 49 U.S.C. 80503; 7 CFR 2.22, 2.80, and 371.3.

Done in Washington, DC, this 30th day of September 2009.
Kevin Shea,
Acting Administrator, Animal and Plant Health Inspection Service.

[FR Doc. E9-23930 Filed 9-30-09; 4:15 pm]

BILLING CODE 3410-34-P